DEPARTMENT OF TRANSPORTATION

Federal Aviation Administration

Proposed Advisory Circular; Guidance Material for 14 CFR 33.28, Reciprocating Engines, Electrical and Electronic Engine Control Systems

AGENCY: Federal Aviation Administration, DOT.

ACTION: Notice of availability of proposed advisory circular and request for comments.

SUMMARY: The Federal Aviation Administration (FAA) announces the availability of proposed Advisory Circular (AC) Number 33.28-2, Guidance Material For 14 CFR § 33.28, Reciprocating Engines, Electrical And Electronic Engine Control Systems.

DATES: Comments must be received on or before September 18, 2002.

ADDRESSES: Send all comments on the proposed AC to the Federal Aviation Administration, Attn: Mark Rumizen, Engine and Propeller Standards Staff, ANE-110, 12 New England Executive Park, Burlington, MA 01803-5299.

FOR FURTHER INFORMATION CONTACT: Mark Rumizen, Engine and Propeller Standards Staff, ANE-110, at the above address; telephone: (781) 238-7113; fax: (781) 238-7199; e-mail: mark.rumizen@faa.gov.

SUPPLEMENTARY INFORMATION:

Comments Invited

A copy of the subject AC may be obtained by contacting the person named under FOR FURTHER INFORMATION CONTACT or by downloading the proposed AC from the following Internet Web site: http://www.airweb.faa.gov/rgl. The FAA invites interested parties to comment on the proposed AC. Comments should identify the subject of the AC and be submitted to the individual identified under FOR FURTHER INFORMATION CONTACT. The FAA will consider all communications received by the closing date before issuing the final AC.

Background

Electrical and Electronic Engine Control (EEC) technology was initially applied to turbine engines designed for large transport aircraft applications. Therefore, the information and guidance for showing compliance with § 33.28 provided by the FAA was oriented toward these applications. However, the increasing use of EEC systems in reciprocating piston engines has created a need for guidance specifically for reciprocating engines. This AC provides a means, but not the only means, of showing compliance with § 33.28 that addresses these issues.

Authority: 49 U.S.C. 106(g), 40113, 44701-44702, 44704.

Issued in Burlington, Massachusetts, on July 3, 2002.
Jay J. Pardee,
Manager, Engine and Propeller Directorate, Aircraft Certification Service.

[FR Doc. 02-17378 Filed 7-9-02; 8:45 am]

BILLING CODE 4910-13-M